GOVERNMENT ACCOUNTABILITY OFFICE

Request for Medicare Payment Advisory Commission Nominations

In notice document 2016-01264 beginning on page 4911 in the issue of Thursday, January 28, 2016, make the following correction:

1. On page 4911, in the third column, in the ADDRESSES section, “MedPACappointments@qao.qov.” should read “MedPACappointments@gao.gov.”

[FR Doc. C1-2016-01264 Filed 2-10-16; 8:45 am]

BILLING CODE 1501-01-D